DEPARTMENT OF HOMELAND SECURITY

U.S. Customs and Border Protection

[OMB Control Number 1651-0111]

Agency Information Collection Activities; Revision; Arrival and Departure Record and Electronic System for Travel Authorization (ESTA)

AGENCY: U.S. Customs and Border Protection (CBP), Department of Homeland Security.

ACTION: 30-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than May 30, 2024) to be assured of consideration.

ADDRESSES: Written comments and/or suggestions regarding the item(s) contained in this notice should be sent within 30 days of publication of this notice to www.reginfo.gov/public/do/PRAMain. Please submit written comments and/or suggestions in English. Find this particular information collection by selecting “Currently under Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (89 FR 14083) on February 26, 2024, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Arrival and Departure Record (I-94/I-94W) and Electronic System for Travel Authorization (ESTA).

OMB Number: 1651-0111.

Form Number: I-94, I-94W.

Current Actions: Revision.

Type of Review: Revision.

Affected Public: Individuals.

Abstract: CBP is implementing a new capability within CBP One™ to allow nonimmigrants who are subject to Form I-94 (“I-94”) requirements, and who are departing the United States, to voluntarily provide biographic data, facial images, and geolocation to provide evidence of that departure. This collection is a part of CBP's critical efforts in fulfilling DHS's mandate to collect biometric information from departing nonimmigrants and CBP's plans to fully automate I-94 information collection. This capability will close the information gap on nonimmigrant entries and exits by making it easier for nonimmigrants subject to I-94 requirements to report their exit to CBP after their departure from the United States. It will also create a biometrically confirmed, and thereby more accurate, exit record for such nonimmigrants leaving the United States.

Certain nonimmigrants subject to I-94 requirements may voluntarily submit their facial images using the CBP One™ mobile application (the app) in order to report their exit from the United States.

Nonimmigrants may use the app to voluntarily submit their biographic information from their passports, or other traveler documents after they have exited the United States.

Nonimmigrants will then use the app to take a “selfie” picture. CBP will utilize geolocation services to confirm that the nonimmigrant is outside the United States as well as run “liveness detection” software to determine that the selfie photo is a live photo, as opposed to a previously uploaded photo. The app will then compare the live photo to facial images for that person already retained by CBP to confirm the exit biometrically.

CBP will utilize this information to help reconcile a nonimmigrant's exit with that person's last arrival. The report of exit will be recorded as a biometrically confirmed departure in the Arrival and Departure Information System (ADIS) maintained by CBP. Nonimmigrants may utilize this information as proof of departure, which is most relevant in the land border environment, but may be utilized for departures via air and sea if desired.

As it pertains to the land environment, there is no requirement for nonimmigrants leaving the United States to report their departure to CBP. However, as described further below, CBP encourages nonimmigrants to report their departure to CBP when they exit, so that CBP can record their exit from the United States.

Although CBP routinely collects biometric data from nonimmigrants entering the United States, there currently is no comprehensive system in place to collect biometrics from nonimmigrants departing the country. Collecting biometrics at both arrival and departure will thus enable CBP and DHS to know with better accuracy whether nonimmigrants are departing the country when they are required to depart. Further, collecting biometric data will help to reduce visa or travel document fraud and improve CBP's ability to identify criminals and known or suspected terrorists. CBP has been testing various options to collect biometrics at departure in the land and air environments since 2004.

At the same time, CBP is also now working to fully automate all I-94 processes. Currently CBP issues electronic I-94s to most nonimmigrants entering the United States at land border ports of entry.

Currently CBP does not routinely staff exit lanes at land border ports of entry, nor does CBP possess a single process for nonimmigrants subject to I-94 requirements to voluntarily report their departure. Nonimmigrants can currently report their departure by any one of the following means: (1) stopping at a land border port of entry and presenting a printed copy of their electronic I-94 to a CBP officer; (2) stopping at a land border port of entry and placing a printed copy of their electronic I-94 in a drop box provided by the port where available; (3) if exiting by land on the northern U.S. border, by turning in a paper copy of their electronic I-94 to the Canadian Border Services Agency (CBSA) when entering Canada (CBSA will then return the form to CBP); or (4) mailing a copy of their electronic I-94 and other proof of departure to CBP.

The current options are burdensome and, in many cases, impractical or inconvenient due to the location and design of the ports. They also lead to haphazard record keeping and inaccurate data collection with respect to the nonimmigrants leaving the country. Most land border ports of entry provide limited access to the port for vehicles exiting the United States and have minimal parking available to the public. For this reason, most nonimmigrants do not report their departure when exiting at land border ports of entry. In those cases, CBP has no way to confirm that a nonimmigrant has exited the United States at the time of departure. CBP often discovers that a nonimmigrant has previously left the United States at a later date, when that same nonimmigrants attempts to re-enter the United States. Having proof of an exit via the CBP One™ app would provide nonimmigrants some information for CBP officers to consider in the event the officer is unsure whether a nonimmigrant complied with the I-94 requirements provided upon their previous entry.

In additonal, CBP intends to update the ESTA application website to require applicants to provide a photograph of their face, or “selfie”, in addition to the photo of the passport biographical page. These photos would be used to better ensure that the applicant is the rightful possessor of the document being used to obtain an ESTA authorization.

Currently, applicants are allowed to have a third party apply for ESTA on their behalf. While this update would not remove that option, third parties, such as travel agents or family members, would be required to provide a photograph of the ESTA applicant.

The ESTA Mobile application currently requires applicants to take a live photograph of their face, which is compared to the passport photo collected during the ESTA Mobile application process. This change will better align the application processes and requirements of ESTA website and ESTA Mobile applicants.

Type of Information Collection: Paper I-94.

Estimated Number of Respondents: 1,782,564.

Estimated Number of Annual Responses per Respondent: 1.

Estimated Number of Total Annual Responses: 1,782,564.

Estimated Time per Response: 8 minutes.

Estimated Total Annual Burden Hours: 237,675.

Type of Information Collection: I-94 Website.

Estimated Number of Respondents: 91,411.

Estimated Number of Annual Responses per Respondent: 1.

Estimated Number of Total Annual Responses: 91,411.

Estimated Time per Response: 4 minutes.

Estimated Total Annual Burden Hours: 6,094.

Type of Information Collection: ESTA Mobile Application.

Estimated Number of Respondents: 500,000.

Estimated Number of Annual Responses per Respondent: 1.

Estimated Number of Total Annual Responses: 500,000.

Estimated Time per Response: 22 minutes.

Estimated Total Annual Burden Hours: 183,333.

Type of Information Collection: ESTA Website.

Estimated Number of Respondents: 15,000,000.

Estimated Number of Annual Responses per Respondent: 1.

Estimated Number of Total Annual Responses: 15,000,000.

Estimated Time per Response: 13 minutes.

Estimated Total Annual Burden Hours: 3,250,000.

Type of Information Collection: CBP One Mobile Application.

Estimated Number of Respondents: 600,000.

Estimated Number of Annual Responses per Respondent: 1.

Estimated Number of Total Annual Responses: 600,000.

Estimated Time per Response: 2 minutes.

Estimated Total Annual Burden Hours: 20,000.

Dated: April 25, 2024.
Seth D Renkema,
Branch Chief, Economic Impact Analysis Branch, U.S. Customs and Border Protection.

[FR Doc. 2024-09264 Filed 4-29-24; 8:45 am]

BILLING CODE 9111-14-P